ENVIRONMENTAL PROTECTION AGENCY

[EPA-R04-OW-2012-0273; FRL-9743-5]

Public Water System Supervision Program Revision for the State of Florida

AGENCY: Environmental Protection Agency (EPA).

ACTION: Notice of tentative approval.

SUMMARY: Notice is hereby given that the State of Florida is revising its Public Water System Supervision Program by adopting the Lead and Copper Rule Short Term Revisions. EPA has determined that Florida's rule is no less stringent than the corresponding federal regulations. Therefore, the EPA is tentatively approving this revision to the State of Florida's Public Water System Supervision Program.

DATES: Any interested person may request a public hearing. A request for a public hearing must be submitted by November 19, 2012, to the Regional Administrator at the EPA, Region 4 address shown below. The Regional Administrator may deny frivolous or insubstantial requests for a hearing. However, if a substantial request for a public hearing is made by November 19, 2012, a public hearing will be held. If the EPA, Region 4 does not receive a timely and appropriate request for a hearing and the Regional Administrator does not elect to hold a hearing on her own motion, this tentative approval shall become final and effective on November 19, 2012. Any request for a public hearing shall include the following information: The name, address, and telephone number of the individual, organization, or other entity requesting a hearing; a brief statement of the requesting person's interest in the Regional Administrator's determination; a brief statement of the information that the requesting person intends to submit at such hearing; and the signature of the individual making the request, or, if the request is made on behalf of an organization or other entity, the signature of a responsible official of the organization or other entity.

ADDRESSES: All documents relating to this determination are available for inspection between the hours of 8:30 a.m. and 4:30 p.m., Monday through Friday, at the following offices: Florida Department of Environmental Protection, Drinking Water Program, 2600 Blair Stone Road, Tallahassee, Florida 32399; and the U.S. Environmental Protection Agency, Region 4, Safe Drinking Water Branch, 61 Forsyth Street SW., Atlanta, Georgia 30303.

EPA Analysis

On October 12, 2010, the State of Florida submitted a request that the Region approve revisions to the State's Safe Drinking Water Act PWSS Program to include the authority to implement and enforce the Lead and Copper Rule Short Term Revisions. EPA reviewed the application using the federal statutory provisions (Section 1413 of the Safe Drinking Water Act), federal regulations (at 40 CFR part 142), state regulations, rule crosswalks and EPA guidance to determine whether the request for revision is approvable.

Florida has chosen to not allow certain options set forth in the federal regulations, to extend time frames for certain activities. There are specific State regulatory provisions indicating the State is not allowing the option to extend those time frames. In addition, Florida has chosen to implement an optional federal requirement regarding submittal of certain information. These choices are consistent with and no less stringent than the federal requirements.

EPA Action: The EPA is tentatively approving this revision. If EPA does not receive a timely and appropriate request for a hearing and the Regional Administrator does not elect to hold a hearing on her own motion, this tentative approval will become final and effective on November 19, 2012.

FOR FURTHER INFORMATION CONTACT: Mr. Larry Meyer, EPA, Region 4, Safe Drinking Water Branch, at the address given above, or by telephone at (404) 562-9449, or via email at meyer.larry@epa.gov.

Authority: Section 1413 of the Safe Drinking Water Act, as amended (1996), and 40 CFR part 142.

Dated: September 11, 2012.
Gwendolyn Keyes Fleming,
Regional Administrator.

[FR Doc. 2012-25794 Filed 10-18-12; 8:45 am]

BILLING CODE 6560-50-P